SMALL BUSINESS ADMINISTRATION

[Disaster Declaration # 10107 and # 10108]

FLORIDA Disaster # FL-00001

AGENCY: U.S. Small Business Administration.

ACTION: Notice.

SUMMARY: This is a notice of an Administrative declaration of a disaster for the State of Florida, dated April 11, 2005.

Incident: Apartment Fire.

Incident Period: March 24, 2005.

DATES: Effective Date: April 11, 2005.

Physical Loan Application Deadline Date: June 10, 2005.

EIDL Loan Application Deadline Date: January 11, 2006.

ADDRESSES: Submit completed loan applications to: U.S. Small Business Administration, Disaster Area Office 1, 360 Rainbow Blvd. South 3rd Floor, Niagara Falls, NY 14303.

FOR FURTHER INFORMATION CONTACT: A. Escobar, Office of Disaster Assistance, U.S. Small Business Administration, 409 3rd Street, Suite 6050, Washington, DC 20416.

SUPPLEMENTARY INFORMATION: Notice is hereby given that as a result of the Administrator's disaster declaration on April 11, 2005, applications for disaster loans may be filed at the address listed above or other locally announced locations. The following areas have been determined to be adversely affected by the disaster:

Primary Counties:

Broward

Contiguous Counties: Florida

Collier, Hendry, Miami-Dade, Palm Beach

The Interest Rates are:

| Percent
Homeowners with credit available elsewhere | 5.875
Homeowners without credit available elsewhere | 2.937
Businesses with credit available elsewhere | 6.000
Businesses & small agricultural cooperatives without credit available elsewhere | 4.000
Other (including non-profit organizations) with credit available elsewhere | 4.750
Businesses and non-profit organizations without credit available elsewhere | 4.000

The number assigned to this disaster for physical damage is 10107 5 and for economic injury is 10108 0.

The State which received an EIDL Declaration # is Florida.

(Catalog of Federal Domestic Assistance Numbers 59002 and 59008).
Dated: April 11, 2005.
Hector V. Barreto,
Administrator.

[FR Doc. 05-7558 Filed 4-14-05; 8:45 am]

BILLING CODE 8025-01-P